COMMODITY FUTURES TRADING COMMISSION

Sunshine Act Meetings

Time and Date: 11 a.m., Friday, August 25, 2006.

Place: 1155 21st St., NW., Washington, DC, 9th Floor Commission Conference Room.

Status: Closed.

Matters to be considered: Surveillance Matters.

For further information contact: Eileen A. Donovan, 202-418-5100.

Eileen A. Donovan,
Acting Secretary of the Commission.

[FR Doc. 06-6714 Filed 8-2-06; 10:33 am]

BILLING CODE 6351-01-M